DEPARTMENT OF ENERGY

Federal Energy Regulatory Commission

[Docket No. RP05-72-000]

Midwestern Gas Transmission Company; Notice of Proposed Changes in FERC Gas Tariff

November 18, 2004.

Take notice that on November 16, 2004, Midwestern Gas Transmission Company (Midwestern) tendered for filing to become part of its FERC Gas Tariff, Third Revised Volume No. 1, the following tariff sheets to become effective December 16, 2004:

First Revised Sheet No. 79

Fifth Revised Sheet No. 246

Third Revised Sheet No. 110

Second Revised Sheet No. 251

Third Revised Sheet No. 111

First Revised Sheet No. 252

Fifth Revised Sheet No. 200

Second Revised Sheet No. 253

Sixth Revised Sheet No. 203

First Revised Sheet No. 267

Third Revised Sheet No. 205

Tenth Revised Sheet No. 273

Seventh Revised Sheet No. 206

Third Revised Sheet No. 400

Third Revised Sheet No. 233

Fourth Revised Sheet No. 401

Third Revised Sheet No. 235

Second Revised Sheet No. 402

Second Revised Sheet No. 236

Third Revised Sheet No. 403

First Revised Sheet No. 244

Fifth Revised Sheet No. 410

Midwestern states that the purpose of this filing is to (1) clarify portions of Midwestern's Rate Schedule SA and Supply Aggregation Service Agreement, (2) make certain changes to its General Terms and Conditions in its Tariff as a result of the issuance of Order No. 2004 and 3) make minor housekeeping changes.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E4-3312 Filed 11-23-04; 8:45 am]

BILLING CODE 6717-01-P